DEPARTMENT OF COMMERCE

International Trade Administration

[C-570-942]

Certain Kitchen Appliance Shelving and Racks from the People's Republic of China: Notice of Postponement of Preliminary Determination in the Countervailing Duty Investigation

AGENCY: Import Administration, International Trade Administration, Department of Commerce.

EFFECTIVE DATE: September 29, 2008.

FOR FURTHER INFORMATION CONTACT: Scott Holland or Yasmin Nair, AD/CVD Operations, Import Administration, International Trade Administration, U.S. Department of Commerce, 14th Street and Constitution Avenue, NW, Washington, DC 20230; telephone: (202) 482-1279 and (202) 482-3813, respectively.

SUPPLEMENTARY INFORMATION:

Background

On August 20, 2008, the Department of Commerce (“the Department”) initiated the countervailing duty investigation of certain kitchen appliance shelving and racks from the People's Republic of China. See Notice of Initiation of Countervailing Duty Investigation: Certain Kitchen Appliance Shelving and Racks from the People's Republic of China, 73 FR 50304 (August 26, 2008). Currently, the preliminary determination is due no later than October 24, 2008.

Postponement of Due Date for Preliminary Determination

On September 17, 2008, the Department received a request from Nashville Wire Products Inc., SSW Holding Company, Inc., United Steel, Paper and Forestry, Rubber, Manufacturing, Energy, Allied-Industrial and Service Workers International Union, and the International Association of Machinists and Aerospace Workers, District Lodge 6 (Clinton, IA) (collectively, “the petitioners”) to postpone the preliminary determination of the countervailing duty investigation of certain kitchen appliance shelving and racks from the PRC. Under section 703(c)(1)(A) of the Tariff Act of 1930, as amended (the Act), the Department may extend the period for reaching a preliminary determination in a countervailing duty investigation until no later than the 130th day after the date on which the administering authority initiates an investigation if the petitioner makes a timely request for an extension of the period within which the determination must be made under section 703(b) of the Act. In accordance with section 351.205(e) of the Department's regulations, the petitioners' request for postponement of the preliminary determination was made 25 days or more before the scheduled date of the preliminary determination. Accordingly, we are extending the due date for the preliminary determination by 59 days to no later than December 22, 2008.

This notice is issued and published pursuant to section 703(c)(2) of the Act.

Dated: September 22, 2008.
David M. Spooner,
Assistant Secretary for Import Administration.

[FR Doc. E8-22886 Filed 9-26-08; 8:45 am]

BILLING CODE 3510-DS-S